FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 12, 2013.

A. Federal Reserve Bank of St. Louis (Yvonne Sparks, Community Development Officer) P.O. Box 442, St. Louis, Missouri 63166-2034:

1. Charles R. Soward, Rosiclare, Illinois and Kimberly A. Cotton, Henderson, Kentucky; to acquire voting shares of Hardin County Bancorp, Rosiclare, Illinois, and thereby indirectly acquire Area Bank, Rosiclare, Illinois.

B. Federal Reserve Bank of Minneapolis (Jacqueline G. King, Community Affairs Officer) 90 Hennepin Avenue, Minneapolis, Minnesota 55480-0291:

1. Devon Joan Goetz, Mandan, North Dakota; to acquire voting shares of Oliver Bancorporation, Inc., Center, North Dakota, and thereby indirectly gain control of Security First Bank of North Dakota, New Salem, North Dakota.

C. Federal Reserve Bank of Kansas City (Dennis Denney, Assistant Vice President) 1 Memorial Drive, Kansas City, Missouri 64198-0001:

1. Joshua C. Rowland, Kansas City, Missouri; to acquire as a member of the Rowland family control group voting shares of Lead Financial Group, Inc., and thereby acquire Lead Bank, both in Garden City, Missouri.

Board of Governors of the Federal Reserve System, May 28, 2013.
Michael J. Lewandowski,
Assistant Secretary of the Board.

[FR Doc. 2013-12958 Filed 5-31-13; 8:45 am]

BILLING CODE 6210-01-P